DEPARTMENT OF EDUCATION

Notice of Proposed Information Collection Requests

AGENCY: Department of Education.

SUMMARY: The Leader, Information Collection Clearance Division, Regulatory Information Management Services, Office of Management, invites comments on the proposed information collection requests as required by the Paperwork Reduction Act of 1995.

DATES: Interested persons are invited to submit comments on or before March 23, 2009.

SUPPLEMENTARY INFORMATION: Section 3506 of the Paperwork Reduction Act of 1995 (44 U.S.C. Chapter 35) requires that the Office of Management and Budget (OMB) provide interested Federal agencies and the public an early opportunity to comment on information collection requests. OMB may amend or waive the requirement for public consultation to the extent that public participation in the approval process would defeat the purpose of the information collection, violate State or Federal law, or substantially interfere with any agency's ability to perform its statutory obligations. The Leader, Regulatory Information Management Services, Office of Management, publishes that notice containing proposed information collection requests prior to submission of these requests to OMB. Each proposed information collection, grouped by office, contains the following: (1) Type of review requested, e.g. new, revision, extension, existing or reinstatement; (2) Title; (3) Summary of the collection; (4) Description of the need for, and proposed use of, the information; (5) Respondents and frequency of collection; and (6) Reporting and/or Recordkeeping burden. OMB invites public comment.

The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology.

Dated: January 14, 2009.
Angela C. Arrington,
Leader, Information Collections Clearance Division, Regulatory Information Management Services, Office of Management.

Federal Student Aid

Type of Review: New Collection.

Title: College.gov Career Tools and College Coaches.

Frequency: On Occasion.

Affected Public: Individuals or household; Businesses or other for-profit.

Reporting and Recordkeeping Hour Burden:

Responses: 400.

Burden Hours: 133.

Abstract: The purpose for including the Career Tool and I'm Going Guide features is to provide students with real world, relatable examples of current college students who were able to overcome obstacles in order to reach a postsecondary education. This feature builds on College.gov's objective to provide students with the inspiration and hopes to see that a college education is possible for everyone (especially targeting underrepresented populations). In the I'm Going Guide feature, students can select current college students to view their profiles, see why and how they went to college, and read the college student's advice for high school students. Each student's profile would include their first name, photo, major and brief description about the student, such as where they are studying, and tips for other students. For the Career Tool feature, the site would show 24 different college grads at a time, but the goal would be to have about 75 that we could “shuffle” on the tool's display. Each college grad's profile would provide their first name, major, career field, and advice for students interested in their field of study. This information clearance will enable the Department to college grad profiles for including in the Career Tool and I'm Going Guide.

Requests for copies of the proposed information collection request may be accessed from http://edicsweb.ed.gov, by selecting the “Browse Pending Collections” link and by clicking on link number 3929. When you access the information collection, click on “Download Attachments” to view. Written requests for information should be addressed to U.S. Department of Education, 400 Maryland Avenue, SW., LBJ, Washington, DC 20202-4537. Requests may also be electronically mailed to ICDocketMgr@ed.gov or faxed to 202-401-0920. Please specify the complete title of the information collection when making your request.

Comments regarding burden and/or the collection activity requirements should be electronically mailed to ICDocketMgr@ed.gov. Individuals who use a telecommunications device for the deaf (TDD) may call the Federal Information Relay Service (FIRS) at 1-800-877-8339.

[FR Doc. E9-1143 Filed 1-21-09; 8:45 am]

BILLING CODE 4000-01-P